DEPARTMENT OF JUSTICE

[OMB Number 1122-0003]

Agency Information Collection Activities; Proposed eCollection eComments Requested; Extension of a Previously Approved Collection; Annual Progress Report for the STOP Formula Grants Program

AGENCY: Office on Violence Against Women, Department of Justice.

ACTION: 60-Day notice.

SUMMARY: The Department of Justice (DOJ), Office on Violence Against Women (OVW), will be submitting the following information collection request to the Office of Management and Budget (OMB) for review and approval in accordance with the Paperwork Reduction Act of 1995.

DATES: Comments are encouraged and will be accepted for 60 days until August 29, 2023.

FOR FURTHER INFORMATION CONTACT: If you have additional comments especially on the estimated public burden or associated response time, suggestions, or need a copy of the proposed information collection instrument with instructions or additional information, please contact Cathy Poston, Office on Violence Against Women, at (202) 514-5430 or Catherine.poston@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The STOP Violence Against Women Formula Grants Program was authorized through the Violence Against Women Act of 1994 (VAWA), 34 U.S.C. 10446 amended and reauthorized in 2000, 2005, 2013 and 2022. The STOP (Services, Training, Officers, and Prosecutors) Violence Against Women Formula Grant Program funding is awarded to States and territories. It enhances the capacity of local communities to develop and strengthen effective law enforcement and prosecution strategies to combat domestic violence, dating violence, sexual assault and stalking and to develop and strengthen comprehensive, holistic victim services. The grant funds must be distributed by STOP State administrators to subgrantees according to a statutory formula. The annual progress reporting form is necessary for the Attorney General and STOP Formula Grant Program grantees and subgrantees to comply with Federal statutory reporting requirements. The information will be used for reports to Congress on the use of appropriated funds in support of the STOP Formula Grant Program. There are two sets of respondents- the STOP State administrators who allocate the STOP funds and the subgrantees who may include law enforcement agencies, prosecutors, officers, courts, and victim services organizations.

Overview of This Information Collection

1. Type of Information Collection: Extension of a previously approved collection.

2. The Title of the Form/Collection: Annual Progress Report for the STOP Formula Grants Program.

3. The agency form number, if any, and the applicable component of the Department sponsoring the collection: Form Number: 1122-0003. U.S. Department of Justice, Office on Violence Against Women.

4. Affected public who will be asked or required to respond, as well as the obligation to respond: Affected Public: State, local and Tribal governments. The obligation to respond is required to obtain/retain a benefit.

5. An estimate of the total number of respondents and the amount of time estimated for an average respondent to respond: It is estimated that it will take approximately one hour for roughly 2500 subgrantees to complete the relevant portion of the annual progress report.

6. An estimate of the total annual burden (in hours) associated with the collection: The total annual hour burden to complete the annual progress report is 2,550 hours.

7. An estimate of the total annual cost burden associated with the collection, if applicable: $0.

Total Burden Hours
Activity | Number of respondents | Frequency | Total annual responses | Time per response | Total annual burden (hours)
STOP Annual Progress Report | 2,556 | 1/annually | 2,556 | 1 hour | 2,556
Unduplicated Totals | 2,556 |  | 2,556 |  | 2,556

If additional information is required contact: John R. Carlson, Department Clearance Officer, United States Department of Justice, Justice Management Division, Policy and Planning Staff, Two Constitution Square, 145 N Street NE, 4W-218, Washington, DC.

Dated: June 26, 2023.
John Carlson,
Department Clearance Officer for PRA, U.S. Department of Justice.

[FR Doc. 2023-13940 Filed 6-29-23; 8:45 am]

BILLING CODE 4410-14-P